DEPARTMENT OF COMMERCE

Foreign-Trade Zones Board

[Order No. 1956]

Restricted Approval for Production Authority, Foreign-Trade Zone 143, Mitsubishi Rayon Carbon Fiber and Composites, Inc., Subzone 143D (Carbon Fiber); Sacramento, CA

Pursuant to its authority under the Foreign-Trade Zones Act of June 18, 1934, as amended (19 U.S.C. 81a-81u), the Foreign-Trade Zones Board (the Board) adopts the following Order:

WHEREAS, Mitsubishi Rayon Carbon Fiber and Composites, Inc. (formerly Grafil, Inc.) (MRCFC), operator of Subzone 143D, has requested authority to produce polyacrylonitrile (PAN)-based carbon fiber under FTZ procedures within Subzone 143D, at MRCFC's facilities in Sacramento, California (B-54-2012, docketed 07-26-2012);

WHEREAS, notice inviting public comment has been given in the Federal Register (77 FR 45575-45576, 8/1/2012 and 79 FR 12150, 3/4/2014) and the application has been processed pursuant to the FTZ Act and the Board's regulations; and,

WHEREAS, the Board adopts the findings and recommendations of the examiner's report, and finds that the requirements of the FTZ Act and the Board's regulations would be satisfied, and that the proposal would be in the public interest if subject to the restriction listed below;

NOW, THEREFORE, the Board hereby orders:

The application for production authority under zone procedures within Subzone 143D, at the MRCFC facilities in Sacramento, California, as described in the application and Federal Register notice, is approved, subject to the FTZ Act and the Board's regulations, including Section 400.13, and further subject to a restriction that all foreign-status PAN fiber admitted for MRCFC's production activity must be re-exported (entry for U.S. consumption is not authorized).

Signed at Washington, DC, this December 6, 2014.
Paul Piquado,
Assistant Secretary of Commerce for Enforcement and Compliance, Alternate Chairman, Foreign-Trade Zones Board.

[FR Doc. 2014-29343 Filed 12-12-14; 8:45 am]

BILLING CODE 3510-DS-P